U.S. INTERNATIONAL DEVELOPMENT FINANCE CORPORATION

[DFC-001A; DFC-001B; DFC-002; DFC-003; DFC-004; DFC-005; DFC-006]

Submission for OMB Review; Comments Request

AGENCY: U.S. International Development Finance Corporation (DFC).

ACTION: Notice of information collection; request for comment.

SUMMARY: Under the provisions of the Paperwork Reduction Act, agencies are required to publish a Notice in the Federal Register notifying the public that the agency is renewing an existing information collection for OMB review and approval and requests public review and comment on the submission. The agencies received no comments in response to the sixty (60) day notice. The purpose of this notice is to allow an additional thirty (30) days for public comments to be submitted. Comments are being solicited on the need for the information; the accuracy of the burden estimate; the quality, practical utility, and clarity of the information to be collected; and ways to minimize reporting the burden, including automated collected techniques and uses of other forms of technology.

DATES: Comments must be received by August 22, 2022.

ADDRESSES: Comments and requests for copies of the subject information collection may be sent by any of the following methods:

• Mail: Deborah Papadopoulos, Agency Submitting Officer, U.S. International Development Finance Corporation, 1100 New York Avenue NW, Washington, DC 20527.

• Email: fedreg@dfc.gov.

Instructions: All submissions received must include the agency name and agency form number or OMB form number for this information collection. Electronic submissions must include the agency form number in the subject line to ensure proper routing. Please note that all written comments received in response to this notice will be considered public records.

FOR FURTHER INFORMATION CONTACT: Agency Submitting Officer: Deborah Papadopoulos, (202) 357-3979.

SUPPLEMENTARY INFORMATION: The agency received no comments in response to the sixty (60) day notice published in Federal Register volume 87 page 30209 on May 18, 2022. Upon publication of this notice, DFC will submit to OMB a request for approval of the following information collections.

Summary Forms Under Review

Title of Collection: Application for Finance. Application for Direct Equity Investment.

Type of Review: Extension without change of a currently approved information collection.

Agency Form Number: DFC-001A, DFC-001B.

OMB Form Number: 3015-0004.

Frequency: Once per investor per project.

Affected Public: Business or other for-profit; not-for-profit institutions; individuals.

Total Estimated Number of Annual Number of Respondents: 320.

Estimated Time per Respondent: 1.5 hours.

Total Estimated Number of Annual Burden Hours: 480 hours.

Abstract: The Application for Finance will be the principal document used by DFC to determine the proposed transaction's eligibility for debt financing and will collect information for financial underwriting analysis. The Application for Direct Equity Investment will collect information for direct equity applications.

Title of Collection: Request for Registration for Political Risk Insurance.

Type of Review: Extension without change of a currently approved information collection.

Agency Form Number: DFC-002.

OMB Form Number: 3015-0008.

Frequency: Once per investor per project.

Affected Public: Business or other for-profit; not-for-profit institutions; individuals.

Total Estimated Number of Annual Number of Respondents: 220.

Estimated Time per Respondent: 30 minutes.

Total Estimated Number of Annual Burden Hours: 110 hours.

Abstract: The Request for Registration for Political Risk Insurance will be the initial document used by DFC to determine the investors' and the project's eligibility for political risk insurance coverage.

Title of Collection: Application for Political Risk Insurance.

Type of Review: Extension without change of a currently approved information collection.

Agency Form Number: DFC-003.

OMB Form Number: 3015-0003.

Frequency: Once per investor per project.

Affected Public: Business or other for-profit; not-for-profit institutions; individuals.

Total Estimated Number of Annual Number of Respondents: 220.

Estimated Time per Respondent: 1.5 hours.

Total Estimated Number of Annual Burden Hours: 330 hours.

Abstract: The Application for Political Risk Insurance will be the principal document used by DFC to determine the investors' and the project's eligibility for political risk insurance coverage.

Title of Collection: Investment Funds Application.

Type of Review: Extension without change of a currently approved information collection.

Agency Form Number: DFC-004.

OMB Form Number: 3015-0006.

Frequency: Once per investor per project.

Affected Public: Business or other for-profit; not-for-profit institutions; individuals.

Total Estimated Number of Annual Number of Respondents: 150.

Estimated Time per Respondent: 2 hours.

Total Estimated Number of Annual Burden Hours: 300 hours.

Abstract: The Investment Funds Application will be the principal document used by the agency to determine the investor's and the project's eligibility for funding and will collect information for underwriting analysis.

Title of Collection: Personal Financial Statement.

Type of Review: Extension without change of a currently approved information collection.

Agency Form Number: DFC-005.

OMB Form Number: 3015-0007.

Frequency: Once per investor per project.

Affected Public: Individuals.

Total Estimated Number of Annual Number of Respondents: 75.

Estimated Time per Respondent: 1 hour.

Total Estimated Number of Annual Burden Hours: 75 hours.

Abstract: The Personal Financial Statement will be used by the agency to determine if individuals who are providing equity investment in or credit support to a proposed transaction have sufficient financial wherewithal to meet their expected obligations under the proposed terms of the agency's financing.

Title of Collection: Personal Identification Form.

Type of Review: Extension without change of a currently approved information collection.

Agency Form Number: DFC-006.

OMB Form Number: 3015-0010.

Frequency: Once per party per project.

Affected Public: Business or other for-profit; not-for-profit institutions; individuals.

Total Estimated Number of Annual Number of Respondents: 975.

Estimated Time per Respondent: 1 hour.

Total Estimated Number of Annual Burden Hours: 975 hours.

Abstract: The Personal Identification Form will used by the agency in its Know Your Customer procedures. The agency will perform a robust due diligence review on each party that has a significant relationship to the projects the agency supports, and this collection is one aspect of that review.

Dated July 19, 2022.
Nichole Skoyles,
Administrative Counsel, Office of the General Counsel.

[FR Doc. 2022-15749 Filed 7-21-22; 8:45 am]

BILLING CODE 3210-01-P